DEPARTMENT OF THE INTERIOR

Fish and Wildlife Service

50 CFR Part 17

[Docket No. FWS-R4-ES-2014-0027; 4500030113]

Endangered and Threatened Wildlife and Plants; 12-Month Finding on a Petition To List Symphyotrichum georgianum as an Endangered or Threatened Species

AGENCY: Fish and Wildlife Service, Interior.

ACTION: Notice of 12-month petition finding.

SUMMARY: We, the U.S. Fish and Wildlife Service (Service), announce a 12-month finding on a petition to list the Symphyotrichum georgianum (Georgia aster) as an endangered species under the Endangered Species Act of 1973, as amended (Act). After review of the best available scientific and commercial information, we find that listing the S. georgianum is not warranted at this time. However, we ask the public to submit to us any new information that becomes available concerning the threats to the S. georgianum or its habitat at any time.

DATES: The finding announced in this document was made on September 18, 2014.

ADDRESSES: This finding is available on the Internet at http://www.regulations.gov at Docket Number FWS-R4-ES-2014-0027. Supporting documentation we used in preparing this finding is available for public inspection, by appointment, during normal business hours at the U.S. Fish and Wildlife Service, Asheville Ecological Services Field Office, 160 Zillicoa St., Asheville, NC 28801. Please submit any new information, materials, comments, or questions concerning this finding to the above address.

FOR FURTHER INFORMATION CONTACT: Janet Mizzi, Field Supervisor, Asheville Ecological Services Field Office (see ADDRESSES); by telephone at 828-258-3939; or by facsimile at 828-258-5330. If you use a telecommunications device for the deaf (TDD), please call the Federal Information Relay Service (FIRS) at 800-877-8339.

SUPPLEMENTARY INFORMATION:

Background

Section 4(b)(3)(B) of the Act (16 U.S.C. 1531 et seq.) requires that, for any petition to revise the Federal Lists of Endangered and Threatened Wildlife and Plants that contains substantial scientific or commercial information that listing the species may be warranted, we make a finding within 12 months of the date of receipt of the petition. In this finding, we determine that the petitioned action is either: (1) Not warranted, (2) warranted, or (3) warranted, but the immediate proposal of a regulation implementing the petitioned action is precluded by other pending proposals to determine whether species are endangered or threatened, and expeditious progress is being made to add or remove qualified species from the Federal Lists of Endangered and Threatened Wildlife and Plants. Section 4(b)(3)(C) of the Act requires that we treat a petition for which the requested action is found to be warranted but precluded as though resubmitted on the date of such finding, that is, requiring a subsequent finding to be made within 12 months. We must publish these 12-month findings in the Federal Register.

Previous Federal Actions

Symphyotrichum georgianum was added to the Federal list of candidate species in 1990 (55 FR 6184) as a category 2 species. Category 2 species were those for which there was some evidence of vulnerability, but for which additional biological information was needed to support a proposed rule to list as endangered or threatened. Candidate categories were discontinued in 1996 (61 FR 7596) in favor of maintaining a list that only represented those species for which we have on file sufficient information on biological vulnerability and threats to support a proposal to list as endangered or threatened, but for which immediate preparation and publication of a proposal is precluded by higher priority listing actions. At that time, S. georgianum was removed from the candidate species list. In 1999, we returned S. georgianum to the candidate species list (64 FR 57534), and it has remained on the candidate list since that time. In the 2007 Candidate Notice of Review (CNOR) (72 FR 69034), the Service downgraded the species' listing priority number from 5 (magnitude of threat = high; immediacy of threat = nonimminent) to 8 (magnitude of threat = moderate; immediacy of threat = imminent) due to an increase in the number of known populations of S. georgianum and a corresponding reduction in the magnitude of threats.

On May 11, 2004, we received a petition, dated May 4, 2004, from the Center for Biological Diversity, requesting that Symphyotrichum georgianum be listed as an endangered species under the Act. Included in the petition was supporting information regarding the species' taxonomy and ecology, historical and current distribution, present status, and actual and potential causes of decline.

The standard for making a 12-month warranted but precluded finding on a petition to list a species is identical to our standard for making a species a candidate for listing. All candidate species identified through our own initiative already have received the equivalent of substantial 90-day and warranted-but-precluded 12-month findings. Nevertheless, we review the status of the newly petitioned candidate species and through the CNOR publish specific section 4(b)(3) findings (i.e., substantial 90-day and warranted-but-precluded 12-month findings) in response to the petitions to list these candidate species. We publish these findings as part of the first CNOR following receipt of the petition. At the time we received the petition, Symphyotrichum georgianum was already on the candidate species list. Therefore, we had determined it was warranted for listing but precluded by higher priority listing actions. We reviewed the status of S. georgianum in every CNOR since the petition was received in 2004.

Under the 2011 Multi-District Litigation (MDL) settlement agreements, the Service agreed to systematically, over a period of 6 years, review and address the needs of 251 candidate species to determine if they should be added to the Federal Lists of Endangered and Threatened Wildlife and Plants. Symphyotrichum georgianum was on that list of candidate species. Therefore, the Service is making this finding at this time in order to comply with the conditions outlined in the MDL agreement.

This notice constitutes a new 12-month finding and listing determination for Symphyotrichum georgianum and supersedes all previous findings.

Species Information

Symphyotrichum georgianum is a flowering plant with large heads, 5 centimeters (cm) (2 inches (in)) across (containing numerous flowers), with dark purple rays up to 2.5 cm (0.9 in) long, and thick, lanceolate (narrow, and tapering toward the apex of the leaf) to oblanceolate (having a rounded apex and a tapering base), scabrous (having small raised dots, scales, or points), clasping leaves. Flowering occurs from early October to mid-November. Disk flowers are white fading to a light or dull lavender, tan or white as they mature, resulting in a difference between colors of early and mature disk corollas (the inner envelope of floral leaves of a flower). The ribbed achenes (small, dry, one-seeded fruit) are up to 4 millimeters (0.1 in) long, with evenly distributed spreading trichomes (small hairs from the outer layer of a plant). Symphyotrichum georgianum can be distinguished from the similar S. patens by its dark purple rays (compared to the light lavender rays of S. patens), and white to lavender disk flowers (compared to the yellow disk flowers of S. patens) (Weakley 2011, p. 968).

Various species of butterflies and bumblebees have been observed pollinating the flowers, but these have not yet been identified to species (Matthews 1993, p. 21). The main mode of reproduction is vegetative. Plants are usually colonial, with one to two stems arising from each underground part.

Taxonomy and Species Description

Alexander initially described the species as Aster georgianus based on a specimen collected by Cuthbert in 1898 from Augusta (Richmond County), Georgia (Small 1933, p. 1381). The distribution was listed as the coastal plain and piedmont of Georgia and South Carolina. When Cronquist (1980) prepared the treatment of the Asteraceae for the Southeastern Flora, he included A. georgianus as a variety of A. patens. Jones (1983), in a Ph.D. dissertation on the Systematics of Aster Section Patentes (Vanderbilt University, TN), provided morphological (relating to form and structure of a plant or animal or its parts), cytological (cell-based), geographic distributional, and ecological evidence that supported consideration of this taxon as a distinct species.

The genus Aster L. (sensu lato (in the broad sense)) contains 250-300 species that occur in the northern Hemisphere of Eurasia and North America, with a few species occurring in South America (Nesom 1994). Recent evidence (derived from morphological and molecular characters as well as chromosome counts) supports earlier contentions that North American species are distinct from Eurasian and South American species, and a major revision of the genus is needed (e.g., Nesom 1994; Noyes and Rieseberg, 1999; Brouillet et al. 2001; Semple et al. 1996). According to these findings, the currently accepted nomenclature for this taxon is Symphyotrichum georgianum (Alexander) Nesom.

Habitat

Symphyotrichum georgianum occupies woodlands and piedmont prairies. Soils vary from sand to heavy clay, with pH ranging from 4.4 to 6.8 at the sites sampled for a 1993 study on the species (Matthews 1993, p. 20). The primary controlling factor appears to be the availability of light. The species is a good competitor with other early successional species, but tends to decline when shaded by woody species. Populations can persist for an undetermined length of time in the shade, but these rarely flower (Matthews 1993, p. 20) and reproduce only by rhizomes (horizontal underground stems that put out lateral shoots and adventitious roots at intervals).

Distribution

Symphyotrichum georgianum is a relict species of post oak savanna/prairie communities that existed across much of the southeastern United States prior to widespread fire suppression and extirpation of large native grazing animals (e.g., bison). The species appears to have been extirpated from Florida (Leon County), one of the five States in which it originally occurred. Symphyotrichum georgianum is presumed extant in 5 counties in Alabama, 15 counties in Georgia, 9 counties in North Carolina, and 14 counties in South Carolina (Figure 1). The species has been documented at 283 site-specific locations that (due to the proximity of many sites) aggregate into 146 probable populations of the species. Of these 146 populations, 118 are presumed extant.

BILLING CODE 4310-55-P

BILLING CODE 4310-55-C

Life History

A genetic study completed in 2013 supports the hypothesis that Symphyotrichum georgianum is a perennial outcrossing species due to the majority of its genetic variation being partitioned within populations (87.5%) with less (12.3%) partitioned among populations within States. The genetic relationships among populations roughly reflected geographic proximity, with populations grouping into three groups: Alabama, Georgia, and the Carolinas. This genetic study suggests no difference in genetic variation or seed fitness between large and small populations of S. georgianum (Gustafson 2013, pp. 4-5). A seed viability analysis study, done by the Atlanta Botanical Garden, showed that across the range of the species, the percentage of filled seed ranged from 77 percent to 99 percent with a trend for smaller populations to have higher percentages of filled seed. Seed germination ranged from 20 to 90 percent, with seeds from North Carolina populations having significantly lower germination percentages than seeds from other States (Cruse-Sanders 2013, p. 1).

Summary of Information Pertaining to the Five Factors

Section 4 of the Act (16 U.S.C. 1533) and implementing regulations (50 CFR 424) set forth procedures for adding species to, removing species from, or reclassifying species on the Federal Lists of Endangered and Threatened Wildlife and Plants. Under section 4(a)(1) of the Act, a species may be determined to be endangered or threatened based on any of the following five factors:

(A) The present or threatened destruction, modification, or curtailment of its habitat or range;

(B) Overutilization for commercial, recreational, scientific, or educational purposes;

(C) Disease or predation;

(D) The inadequacy of existing regulatory mechanisms; or

(E) Other natural or manmade factors affecting its continued existence.

In making this finding, information pertaining to the S. georgianum in relation to the five factors provided in section 4(a)(1) of the Act is discussed below. In considering what factors might constitute threats, we must look beyond the mere exposure of the species to the factor to determine whether the species responds to the factor in a way that causes actual impacts to the species. If there is exposure to a factor, but no response, or only a positive response, that factor is not a threat. If there is exposure and the species responds negatively, the factor may be a threat, and we then attempt to determine how significant a threat it is. If the threat is significant, it may drive or contribute to the risk of extinction of the species such that the species warrants listing as endangered or threatened as those terms are defined by the Act. This finding does not necessarily require empirical proof of a threat. The combination of exposure and some corroborating evidence of how the species is likely impacted could suffice. The mere identification of factors that could impact a species negatively is not sufficient to compel a finding that listing is appropriate; we require evidence that these factors are operative threats that act on the species to the point that the species meets the definition of an endangered or threatened species under the Act.

In making our 12-month finding on the petition we considered and evaluated the best available scientific and commercial information.

Factor A. The Present or Threatened Destruction, Modification, or Curtailment of Its Habitat or Range

The destruction and loss of habitat due to development can detrimentally affect small populations of many rare or locally endemic species, including Symphyotrichum georgianum. Habitat loss due to development has been considered a threat to the species in the States where it currently is found, and historically throughout its range (M. (Franklin) Buchanan, pers. comm. 2007; A. Schotz, pers. comm. 2007). Disturbance (e.g., fire, native grazers) is a part of this species' habitat requirements. The historical sources of this disturbance have been virtually eliminated from S. georgianum's range, except where road, railroad, and rights-of-way (ROW) maintenance is mimicking the missing natural disturbances. The habitat of some existing populations continues to be subject to destruction, modification, or curtailment due to planned residential subdivision development, highway expansion/improvement projects, and woody succession due to fire suppression.

Conservation Efforts To Reduce Habitat Destruction, Modification, or Curtailment of Its Range

Conservation partners have been working to manage Symphyotrichum georgianum, and improvements are continually being made in population size and vigor. A few examples of work by our partners to conserve this plant are highlighted below.

Georgia Department of Natural Resources

Oaky Woods Wildlife Management Area in Georgia has used prescribed fires to help manage for this species. In October 2006, Symphyotrichum georgianum (one patch with five flowering-stems) was discovered on the largest prairie remnant in Oaky Woods. Regular winter and early growing season burns every 1 to 3 years on the S. georgianum prairie since 2007 greatly enhanced the prairie. By 2012, the small patch had increased to more than 80 flowering stems in a 30 meter (m) by 10 m area, and several new patches have been found on other parts of the prairie habitat (T. Patrick, pers. comm. 2013).

U.S. Forest Service (USFS)

The USFS has been thinning woody vegetation, conducting prescribed burns, and treating for nonnative invasive species to manage for Symphyotrichum georgianum on national forest land throughout the species' range. For example, management has aided many populations on the Chattahoochee National Forest in Georgia. As of 2013, nine populations, totaling roughly 5,000 S. georgianum stems, grow on the Chattahoochee National Forest. The Chattahoochee National Forest is also working with partners on propagation and out-planting (J. Baggs, pers. comm. 2013). The Talladega National Forest contains Alabama's largest population (approximately 4,000 individuals). In 2008, the Talladega National Forest thinned longleaf pine (Pinus palustris) stands to savannah conditions specifically to aid the S. georgianum population. The Talladega National Forest is partnering with Auburn University to grow and plant approximately 2,000 S. georgianum seedlings (G. Shurette, pers. comm. 2013). The Uwharrie National Forest in North Carolina reduced the basal area (average amount of an area occupied by tree stems) of an oak-hickory forest adjacent to a S. georgianum population from 100 square feet (ft²) to less than 40 ft² in 2002. This area was burned in 2003 with the fireline constructed next to the original S. georgianum population of 60 stems. This population expanded into the fireline by 2004, and stem counts in 2010 and 2011 indicated a 25-fold increase from 1998 counts (G. Kauffman, pers. comm. 2013). Sumter National Forest is using propagation, out-planting, prescribed-fire, and woody vegetation thinning to increase S. georgianum population size (R. Mackie, pers. comm. 2013). More than 7,000 individuals of S. georgianum from 13 populations grow on the Sumter National Forest in South Carolina.

National Park Service

The Chattahoochee River National Recreation Area in Georgia annually monitors the populations that grow in the park. In coordination with the Georgia Department of Transportation, plants were rescued from a road-widening site within the park in 2012 and planted near a parking lot which is maintained via weed-trimming in winter months. This site now has 256 stems showing good viability (Read and Pierson 2012).

State Departments of Transportation

In Georgia, North Carolina and South Carolina, populations have been relocated in advance of road improvement activities that would have destroyed or modified S. georgianum habitat.

Summary of Factor A

Since the Service added Symphyotrichum georgianum to the candidate list in 1999, more than 50 additional populations of the species have been discovered. There are currently 118 known populations of the species occurring in 4 States. While an unknown number of S. georgianum populations may be subject to future habitat loss due to development, a minimum of 55 populations occur on lands managed for conservation. These populations are not subject to development and are being managed to maintain and enhance S. georgianum.

Therefore, we conclude, based on the best scientific and commercial information available, that the present or threatened destruction, modification, or curtailment of its habitat or range is not considered a threat to this species, nor is it likely to become a threat in the foreseeable future.

Candidate Conservation Agreement (CCA)

The Service has also worked with partners to create a CCA to establish a formal framework for public and private landowners to continue to cooperate on actions (like those described above) that conserve, manage, and improve Symphyotrichum georgianum populations range-wide. Signed by multiple landowners in May 2014, the CCA is voluntary and flexible in nature and aims to continue to reduce habitat destruction, modification, or curtailment of S. georgianum range through management techniques designed to mimic natural disturbance by natural or prescribed fire or direct management such as mowing or silvicultural techniques.

Factor B. Overutilization for Commercial, Recreational, Scientific, or Educational Purposes

This species is not currently known to be a significant component of the commercial trade, and the Service is not aware of any utilization of Symphyotrichum georgianum for recreational, scientific, or educational purposes. Furthermore, we found no information indicating that overutilization has led to the loss of populations or a significant reduction in numbers of individuals of this species. Therefore, we conclude based on the best scientific and commercial information available that overutilization for commercial, recreational, scientific, or educational purposes does not currently pose a threat to S. georgianum, nor is it likely to become a threat in the foreseeable future.

Factor C. Disease or Predation

In 2010 and 2011, researchers from the North Carolina Botanical Garden, USFS and the Service found larvae (not yet identified) feeding on seeds inside the heads of Symphyotrichum georgianum at all sites visited in North Carolina. This activity was also observed in other Asteraceae blooming in the fall during the same study period. Percent of infested heads varied by site and ranged from 10 percent to 40 percent of S. georgianum seed heads present. Seeds in infested heads seemed to have low to no viability.

There was evidence of deer browse and reduced seed set at one North Carolina site in 2011 (M. Kunz, pers. comm. 2012). The North Carolina Department of Transportation (NCDOT) found that one population they helped to conserve was heavily impacted by deer browse, prompting them to place deer fencing around transplants in a conservation area (Herman and Frazer 2012, p. 3). Many of Georgia's populations are also impacted by deer browse (M. Moffet and T. Patrick, pers. comm. 2013).

Conservation Efforts to Reduce Disease or Predation

The NCDOT placed deer fencing around one population of S. georgianum that they helped conserve.

Although there is evidence showing this species has been impacted by disease and predation, we found no information indicating that disease or predation on Symphyotrichum georgianum has led to the loss of populations or a significant reduction in numbers of individuals for this species. Therefore, we conclude, based on the best scientific and commercial information available, that disease or predation does not currently pose a threat to the species, nor is it likely to become a threat in the foreseeable future.

Factor D. The Inadequacy of Existing Regulatory Mechanisms

Section 4(b)(1)(A) of the Act requires the Service to take into account “those efforts, if any, being made by any state or foreign nation, to protect such species . . .” In relation to Factor D under the Act, we interpret this language to require the Service to consider relevant Federal, State and tribal laws, plans, regulations and other such mechanisms that may minimize any of the threats we describe in threat analyses under the other four factors or otherwise enhance conservation of the species. Having evaluated the significance of the threat as mitigated by any such conservation efforts, we analyze under Factor D the extent to which regulatory mechanisms are inadequate to address the specific threats to the species. Regulatory mechanisms, if they exist, may reduce or eliminate the impacts from one or more identified threats. We give strongest weight to statutes and their implementing regulations and to management direction that stems from those laws and regulations. An example would be State governmental actions enforced under a State statute or constitution or Federal action under statute.

State Regulations

The North Carolina Plant Conservation and Protection Act (NC State Code Article 19B, § 106-202.12) provides limited protection from unauthorized collection and trade of plants listed under that statute. However, this statute was not designed to protect the species or its habitat from destruction in conjunction with development projects or otherwise legal activities. Plant species are afforded some protection in South Carolina; they are protected from disturbance where they occur on properties owned by the State and specifically managed as South Carolina Heritage Preserves (SC State Code of Regulations Part 123 § 200-204). Portions of two South Carolina populations occur on State park land and are afforded some protection by this State statute. Collection of S. georgianum on public lands without a permit is prohibited in Georgia under the Georgia Wildflower Preservation Act of 1973. However, no such provisions are afforded to plants found on privately owned lands in the State. The species does not receive any specific legal protections from State laws or regulations in Alabama.

Federal Regulations

Thirty-eight extant populations of Symphyotrichum georgianum occur on Federal lands (USFS National Forest lands, including the Chattahoochee-Oconee, Sumter, Talladega, and Uwharrie National Forests; National Park Service (NPS) lands, including the Chattahoochee River National Recreation Area and Kings Mountain National Military Park; the Cahaba River National Wildlife Refuge; and land owned by the U.S. Army Corps of Engineers).

The USFS has to maintain viability of this plant on each planning unit where it occurs because Symphyotrichum georgianum is a USFS region 8 sensitive species (USFS Handbook 2670 written in 1991, updated by the regional forester in 2001 with S. georgianum added). The USFS considers the effects of their actions on the viability of sensitive species through the National Environmental Policy Act process. As defined by USFS policy, actions should not result in loss of species' viability or create significant trends toward the need for Federal listing.

National Park Service policies (NPS 2006) state that “The National Park Service will inventory, monitor, and manage state and locally listed species in a manner similar to its treatment of federally listed species to the greatest extent possible. In addition, the NPS will inventory other native species that are of special management concern to parks (such as rare, declining, sensitive, or unique species and their habitats) and will manage them to maintain their natural distribution and abundance.”

Management practices being implemented by the USFS and NPS through their policies help abate the threat of habitat destruction, modification, or curtailment to 36 Symphyotrichum georgianum populations on Federal lands.

Tribal Regulations

We are not aware of any populations of Symphyotrichum georgianum that occur on tribal lands; therefore, there are no tribal regulations that would apply.

Existing regulatory mechanisms are working as designed to reduce or minimize impacts to Symphyotrichum georgianum. Therefore, we conclude, based on the best scientific and commercial information available, that the inadequacy of existing regulatory mechanisms does not currently pose a threat to S. georgianum, nor is it likely to become a threat in the foreseeable future.

Factor E. Other Natural or Manmade Factors Affecting Its Continued Existence

Due to the elimination of historical sources of disturbance that helped maintain suitable habitat conditions for the species, most of the known populations of Symphyotrichum georgianum are now found adjacent to roads, railroads, utility ROW, and other openings where land management mimics natural disturbance regimes. However, at these locations S. georgianum also is inherently vulnerable to accidental destruction from herbicide application, road shoulder grading, and other maintenance activities. More utility companies and railroads are shifting to herbicide spraying instead of mowing for longer lasting control of vegetation growth. Repeated mowing of S. georgianum populations during the height of the growing season can reduce population vigor, and may eventually kill plants, but these effects take longer to manifest than direct application of herbicides during the growing season.

Several sites are impacted by the encroachment of invasive exotic plants. Examples of these invasive exotic plants include autumn olive (Elaeagnus umbellata), Japanese honeysuckle (Lonicera japonica), bicolor lespedeza (Lespedeza bicolor), sericea (Lespedeza cuneata), kudzu (Pueraria lobata), Johnson grass (Sorghum halepense) and Bahia grass (Paspalum notatum). At this time, however, we have no information on the nature or extent of the impacts of invasive plants.

Conservation Efforts To Reduce Other Natural or Manmade Factors Affecting Its Continued Existence

The NCDOT signed a Memorandum of Understanding (MOU) with the North Carolina Department of Environment and Natural Resources (NCDENR) in 1990. Under the MOU, NCDOT agrees to protect populations of North Carolina rare species that occur on NCDOT ROW. In addition to other management actions, under this agreement, NCDOT does not mow in the height of the growing season, and they do not use herbicides near known Symphyotrichum georgianum populations.

Since Symphyotrichum georgianum was added to the candidate species list in 1999, many threats have been reduced or abated, including potential threats from herbicide application, and other road and utility ROW maintenance activities.

Therefore, we conclude, based on the best scientific and commercial information available, that the threat of other natural or manmade factors has been reduced considerably, and these factors do not currently pose a threat to Symphyotrichum georgianum, nor are they likely to in the foreseeable future.

As described under Factor A, the CCA formalizes management activities that partners have already been implementing to protect and enhance S. georgianum and its habitat.

Cumulative Effects From Factors A through E

None of the cumulative impacts will rise to the level that warrants listing under the Act. The current and threatened destruction, modification, and curtailment of the habitat and range of the species (Factor A) are a concern for the species in the States where it currently is found. Residential subdivision development, highway expansion/improvement projects, and woody succession due to fire suppression are all stressors to habitat. However, these stressors are abated in a large percentage (45 percent) of known populations due to management practices currently being undertaken by USFS, NPS, and multiple State agencies. Existing State regulatory mechanisms were not designed to protect the species or its habitat from destruction in conjunction with development projects or otherwise legal activities, which is a concern. However, the Federal regulations implemented by the USFS and NPS help to protect 36 populations. As described in Factor E, management (mowing and herbicide applications) of roadside and utility ROW, where the majority of the known remaining populations occur, can directly kill the plants. This stressor has been abated in NCDOT ROW due to their MOU with NCDENR.

The CCA simply formalized these ongoing management practices. These management actions will continue to be implemented throughout the species' range.

Finding

As required by the Act, we considered the five factors in assessing whether Symphyotrichum georgianum is endangered or threatened throughout all of its range. We examined the best scientific and commercial information available regarding the past, present, and future threats faced by S. georgianum. We reviewed the petition, information available in our files, and other available published and unpublished information, and we consulted with recognized S. georgianum experts and other Federal and State agencies.

The species is relatively widely distributed across 4 States with an estimated 118 existing populations. Recent information indicates the species is more abundant now than when we initially identified it as a candidate for listing in 1999 when approximately 60 populations were known. Due to this increase in known abundance of Symphyotrichum georgianum, the magnitude of threats has been reduced, as noted previously in our downgrading of the species' listing priority number in the Service's 2007 CNOR (72 FR 69034).

Based on our review of the best available scientific and commercial information pertaining to the five factors, we find that the threats are not of sufficient imminence, intensity, or magnitude to indicate that the Symphyotrichum georgianum is in danger of extinction (endangered), or likely to become endangered within the foreseeable future (threatened), throughout all of its range.

Distinct Vertebrate Population Segment (DPS)

Symphyotrichum georgianum is not a vertebrate, and therefore the Service's DPS policy does not apply.

Significant Portion of the Range

Under the Act and our implementing regulations, a species may warrant listing if it is an endangered or a threatened species throughout all or a significant portion of its range. The Act defines “endangered species” as any species which is “in danger of extinction throughout all or a significant portion of its range,” and “threatened species” as any species which is “likely to become an endangered species within the foreseeable future throughout all or a significant portion of its range.” The term “species” includes “any subspecies of fish or wildlife or plants, and any distinct population segment [DPS] of any species of vertebrate fish or wildlife which interbreeds when mature.” We published a final policy interpretating the phrase “Significant Portion of its Range” (SPR) (79 FR 37578). The final policy states that (1) if a species is found to be an endangered or a threatened species throughout a significant portion of its range, the entire species is listed as an endangered or a threatened species, respectively, and the Act's protections apply to all individuals of the species wherever found; (2) a portion of the range of a species is “significant” if the species is not currently an endangered or a threatened species throughout all of its range, but the portion's contribution to the viability of the species is so important that, without the members in that portion, the species would be in danger of extinction, or likely to become so in the foreseeable future, throughout all of its range; (3) the range of a species is considered to be the general geographical area within which that species can be found at the time FWS or NMFS makes any particular status determination; and (4) if a vertebrate species is an endangered or a threatened species throughout an SPR, and the population in that significant portion is a valid DPS, we will list the DPS rather than the entire taxonomic species or subspecies.

The SPR policy is applied to all status determinations, including analyses for the purposes of making listing, delisting, and reclassification determinations. The procedure for analyzing whether any portion is an SPR is similar, regardless of the type of status determination we are making. The first step in our analysis of the status of a species is to determine its status throughout all of its range. If we determine that the species is in danger of extinction, or likely to become so in the foreseeable future, throughout all of its range, we list the species as an endangered (or threatened) species and no SPR analysis will be required. If the species is neither an endangered nor a threatened species throughout all of its range, we determine whether the species is an endangered or a threatened species throughout a significant portion of its range. If it is, we list the species as an endangered or a threatened species, respectively; if it is not, we conclude that listing the species is not warranted.

When we conduct an SPR analysis, we first identify any portions of the species' range that warrant further consideration. The range of a species can theoretically be divided into portions in an infinite number of ways. However, there is no purpose to analyzing portions of the range that are not reasonably likely to be significant and either an endangered or a threatened species. To identify only those portions that warrant further consideration, we determine whether there is substantial information indicating that (1) the portions may be significant and (2) the species may be in danger of extinction in those portions or likely to become so within the foreseeable future. We emphasize that answering these questions in the affirmative is not a determination that the species is an endangered or a threatened species throughout a significant portion of its range—rather, it is a step in determining whether a more detailed analysis of the issue is required. In practice, a key part of this analysis is whether the threats are geographically concentrated in some way. If the threats to the species are affecting it uniformly throughout its range, no portion is likely to warrant further consideration. Moreover, if any concentration of threats apply only to portions of the range that clearly do not meet the biologically based definition of “significant” (i.e., the loss of that portion clearly would not be expected to increase the vulnerability to extinction of the entire species), those portions will not warrant further consideration.

If we identify any portions that may be both (1) significant and (2) endangered or threatened, we engage in a more detailed analysis to determine whether these standards are indeed met. The identification of an SPR does not create a presumption, prejudgment, or other determination as to whether the species in that identified SPR is an endangered or a threatened species. We must go through a separate analysis to determine whether the species is an endangered or a threatened species in the SPR. To determine whether a species is an endangered or a threatened species throughout an SPR, we will use the same standards and methodology that we use to determine if a species is an endangered or a threatened species throughout its range.

Depending on the biology of the species, its range, and the threats it faces, it may be more efficient to address the “significant” question first, or the status question first. Thus, if we determine that a portion of the range is not “significant,” we do not need to determine whether the species is an endangered or a threatened species there; if we determine that the species is not an endangered or a threatened species in a portion of its range, we do not need to determine if that portion is “significant.”

We evaluated the current range of Symphyotrichum georgianum to determine if there is any apparent geographic concentration of potential threats for this species. We examined potential threats and found no concentration of threats that suggests that S. georgianum may be in danger of extinction in a portion of its range. We found no portions of the range where potential threats are significantly concentrated or substantially greater than in other portions of its range. Therefore, we find that the factors affecting S. georgianum are essentially uniform throughout its range, indicating no portion of the range warrants further consideration of possible endangered or threatened status under the Act.

Our review of the best available scientific and commercial information indicates that the Symphyotrichum georgianum is not in danger of extinction (endangered) nor likely to become endangered within the foreseeable future (a threatened species), throughout all or a significant portion of its range. Therefore, we find that listing Symphyotrichum georgianum as an endangered or threatened species under the Act is not warranted at this time.

We request that you submit any new information concerning the status of, or threats to, Symphyotrichum georgianum to our Asheville Ecological Services Field Office (see ADDRESSES) whenever it becomes available. New information will help us monitor S. georgianum and encourage its conservation. If an emergency situation develops for S. georgianum, we will act to provide immediate protection.

References Cited

A complete list of references cited is available on the Internet at http://www.regulations.gov and upon request from the Asheville Ecological Services Field Office (see ADDRESSES).

Author(s)

The primary authors of this notice are the staff members of the Asheville Ecological Services Field Office.

Authority

The authority for this section is section 4 of the Endangered Species Act of 1973, as amended (16 U.S.C. 1531 et seq.).

Dated: September 8, 2014.
Stephen Guertin,
Acting Director, U.S. Fish and Wildlife Service.

[FR Doc. 2014-22242 Filed 9-17-14; 8:45 am]

BILLING CODE 4310-55-P